FEDERAL COMMUNICATIONS COMMISSION

47 CFR Part 73

[DA 07-805; MB Docket No. 05-132; RM-11217]

Radio Broadcasting Services; Junction, Melvin, and Menard, TX

AGENCY: Federal Communications Commission.

ACTION: Proposed rule; withdrawal.

SUMMARY: The staff approves the withdrawal of a petition for rulemaking in this FM allotment rulemaking proceeding See SUPPLEMENTARY INFORMATION.

FOR FURTHER INFORMATION CONTACT: Andrew J. Rhodes, Media Bureau, (202) 418-2180.

SUPPLEMENTARY INFORMATION: This is a synopsis of the Commission's Report and Order, MB Docket No. 05-132, adopted February 21, 2007, and released February 23, 2007. The full text of this Commission decision is available for inspection and copying during normal business hours in the FCC Reference Information Center (Room CY-A257), 445 12th Street, SW., Washington, DC 20554. The complete text of this decision may also be purchased from the Commission's copy contractor, Best Copy and Printing, Inc., Portals II, 445 12th Street, SW., Room CY-B402, Washington, DC 20554, telephone 1-800-378-3160 or http://www.BCPIWEB.com.

In response to a rulemaking petition filed by Charles Crawford, the Notice of Proposed Rulemaking proposed the allotment of Channel 242A at Melvin, Texas. To accommodate this allotment, it also proposed the substitution of Channel 292A for vacant Channel 242A at Menard, Texas, and the substitution of Channel 224A for vacant Channel 292A at Junction, Texas. The withdrawal of the petition for rulemaking complies with Section 1.420(j) of the Commission's rules because the rulemaking petitioner is not receiving any money or other consideration in return for the withdrawal. See 70 FR 19398 (April 13, 2005).

This document is not subject to the Congressional Review Act. (The Commission, is, therefore, not required to submit a copy of this Report and Order to GAO, pursuant to the Congressional Review Act, see 5 U.S.C. 801(a)(1)(A) because the petition for rulemaking was dismissed).

Federal Communications Commission.
John A. Karousos,
Assistant Chief, Audio Division, Media Bureau.

[FR Doc. E7-4544 Filed 3-13-07; 8:45 am]

BILLING CODE 6712-01-P